DEPARTMENT OF COMMERCE

International Trade Administration

[A-570-831]

Fresh Garlic From the People's Republic of China; Preliminary Results of Antidumping Duty New Shipper Review, Preliminary Results of Antidumping Duty Administrative Review, and Partial Rescission of Administrative Review

AGENCY: Import Administration, International Trade Administration, Department of Commerce.

ACTION: Notice of preliminary results of antidumping duty new shipper review, preliminary results of antidumping duty administrative review, and partial rescission of administrative review.

SUMMARY: In response to requests from interested parties, the Department of Commerce is conducting a new shipper review and an administrative review of the antidumping duty order on fresh garlic from the People's Republic of China. The period of review for the new shipper review, which concerns one new shipper, is June 1, 2000, through November 30, 2000. The period of review for the administrative review is November 1, 1999, through October 31, 2000. This review covers six manufacturers/exporters. At the request of the petitioner and the agreement of the new shipper, the two reviews have been aligned and are being performed simultaneously. With respect to the new shipper review, we find that the company has failed to provide the identity of garlic producers and other information key to an analysis of the factors of production and, therefore, a margin determination. Therefore, we preliminarily determine in the new shipper review that the respondent has not acted to the best of its ability and the usage of facts otherwise available for margin-calculation purposes is warranted. With respect to the administrative review, the requests for review have been withdrawn for two respondent-companies. We are therefore rescinding the review with respect to these companies. For the remaining four respondent-companies, we also have found that the respondents have not acted to the best of their ability in responding to our questionnaires. Therefore, we have preliminarily determined to use facts otherwise available for the determination of a margin.

We invite interested parties to comment on these preliminary results. Parties who submit comments are requested to submit with each argument: (1) a statement of the issue and (2) a brief summary of the argument.

EFFECTIVE DATE: August 24, 2001.

FOR FURTHER INFORMATION CONTACT: Hermes Pinilla or Richard Rimlinger, Office of Antidumping/Countervailing Duty Enforcement 3, Import Administration, International Trade Administration, U.S. Department of Commerce, 14th Street and Constitution Avenue, NW., Washington, DC 20230; telephone (202) 482-3477 or (202) 482-4477, respectively, for information concerning the new shipper review. For information concerning the administrative review, please contact Edythe Artman or Mark Ross at the same address; telephone (202) 482-3931 or (202) 482-4794, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (2000).

Background

On November 8, 2000, the Department published a notice of opportunity to request an administrative review of the antidumping duty order on fresh garlic from the People's Republic of China (PRC). See Antidumping or Countervailing Duty Order, Finding, or Suspended Investigation; Opportunity to Request Administrative Review, 65 FR 66965 (Nov. 8, 2000). On November 29, 2000, a legal representative submitted a request for a new shipper review in accordance with section 751(a)(2)(B) of the Act and section 351.214 (c) of the Department's regulations on behalf of Feidong Import and Export Company Ltd. (Feidong). On December 8, 2000, the representative submitted an amended request, in which Clipper Manufacturing Ltd. (Clipper) was identified as the new shipper. Because of circumstances concerning the request for review, the Department accepted the amendment as a timely submission. See “Memorandum to the File” regarding request for clarification concerning new shipper request (December 22, 2000). (All cited memoranda to the file and decision memoranda are on file in the Central Records Unit (CRU), Main Commerce Building, Room B-099.) We published a notice of initiation of new shipper review for Clipper on January 3, 2001. See Fresh Garlic from the People's Republic of China: Initiation of New Shipper Antidumping Duty Review, 66 FR 350 (January 3, 2001).

On November 27, 2000, Jinan Import and Export Co. (Jinan) requested an administrative review of exports of its merchandise to the United States. On November 30, 2000, Fook Huat Tong Kee Pte., Ltd., and Taian Fook Huat Tong Kee Foods Co., Ltd. (collectively FHTK), requested a review of their exports to the United States. On the same day, the petitioner, the Fresh Garlic Producers Association and its individual members, requested reviews of the following producers/exporters of the subject merchandise: FHTK; Rizhao Hanxi Fisheries and Comprehensive Development Co., Ltd. (Rizhao); Zhejiang Materials Industry (Zhejiang); Wo Hing (H.K.) Trading Co. (Wo Hing); Feidong; and an unidentified producer or exporter responsible for a shipment of fresh garlic imported by Good Time Produce, Inc. The Department determined that, in accordance with its past practice, it would not initiate a review of the latter respondent since the petitioner was unable to identify it by name. See “Memorandum to the File” regarding deficient request for administrative review (December 29, 2000). We published a notice of initiation of administrative review on December 28, 2000. See Initiation of Antidumping and Countervailing Duty Administrative Reviews, 65 FR 82322 (December 28, 2000).

On January 8, 2001, we issued a questionnaire to Clipper, each respondent in the administrative review, the Embassy of the PRC, the Ministry of Foreign Trade and Economic Cooperation (MOFTEC), and the China Chamber of Commerce for Import and Export of Foodstuffs, Native Produce, and Animal By-Products (China Chamber of Commerce). The questionnaire for Zhejiang was sent in care of MOFTEC since we were unable to obtain an address or phone number for that company. We did not receive a response to the questionnaire from the Embassy of the PRC, MOFTEC, or the China Chamber of Commerce.

On February 9, 2001, the petitioner submitted a request for alignment of the new shipper and administrative reviews. Clipper responded to the Department that it did not object to the petitioner's request. See “Memorandum to the File” regarding alignment of new shipper and administrative reviews (February 19, 2001). Therefore, we are conducting the two reviews simultaneously.

Scope of the Order

The products subject to the antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include the following: (a) garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheadings 0703.20.0010, 0703.20.0020, 0703.20.0090, 0710.80.7060, 0710.80.9750, 0711.90.6000, and 2005.90.9700 of the Harmonized Tariff Schedule of the United States (HTSUS). Although the HTSUS subheadings are provided for convenience and customs purposes, our written description of the scope of this proceeding is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to the Customs Service to that effect.

Partial Rescission of Administrative Review

On February 13, 2001, we received a letter from Jinan withdrawing its request for review. On the same day, we received a letter from Feidong in which it stated that it had made no shipments of subject merchandise to the United States during the period of review (POR). Prior to confirmation of this statement with the U.S. Customs Service, the petitioner sent us a letter in which it withdrew its request for review with respect to Feidong on March 5, 2001. Because the requests were withdrawn in a timely manner, we are rescinding the review with respect to Jinan and Feidong, in accordance with 19 CFR 351.213(d)(3).

Separate Rates

The Department has treated the PRC as a non-market-economy (NME) country in all past antidumping investigations (see, e.g., Final Determination of Sales at Less Than Fair Value: Creatine Monohydrate from the People's Republic of China, 64 FR 71104 (December 20, 1999), and Final Determination of Sales at Less Than Fair Value: Certain Preserved Mushrooms from the People's Republic of China, 63 FR 72255 (December 31, 1998)) and in prior segments of this proceeding. A designation as an NME remains in effect until it is revoked by the Department. See section 771(18)(C) of the Act. Accordingly, there is a rebuttable presumption that all companies within the PRC are subject to government control and, thus, should be assessed a single antidumping duty deposit rate.

It is the Department's standard policy to assign all exporters of the merchandise subject to review in NME countries a single rate, unless an exporter can affirmatively demonstrate an absence of government control, both in law (de jure) and in fact (de facto), with respect to exports. To establish whether a company is sufficiently independent to be entitled to a separate, company-specific rate, the Department analyzes each exporting entity in an NME country under the test established in the Final Determination of Sales at Less Than Fair Value: Sparklers from the People's Republic of China, 56 FR 20588 (May 6, 1991) (Sparklers), as amplified by the Final Determination of Sales at Less Than Fair Value: Silicon Carbide from the People's Republic of China, 59 FR 22585 (May 2, 1994).

Because Rizhao, Zhejiang, and Wo Hing did not provide responses to our request for information regarding separate rates, we preliminarily determine that these respondent-companies do not merit separate rates. See, e.g., Natural Bristle Paint Brushes and Brush Heads from the People's Republic of China; Preliminary Results of Antidumping Duty Administrative Review, 61 FR 57390 (November 6, 1996). Consequently, consistent with the statement in our notice of initiation, we find that, because these companies do not qualify for separate rates, they are deemed to be covered by the PRC-entity rate.

Clipper's submissions establish that it is a Hong Kong company. Because Hong Kong companies are treated as market-economy companies (see Application of U.S. Antidumping and Countervailing Duty Laws to Hong Kong, 62 FR 42965 (August 11, 1997)), we determine that no separate-rate analysis is required for Clipper. Consequently, Clipper qualifies for a company-specific rate.

FHTK's submissions establish that Taian Fook Huat Tong Kee Foods Co., Ltd., is a PRC-company that is wholly-owned by Fook Huat Tong Kee Pte., Ltd., a Singaporean company. Fook Huat Tong Kee Pte., Ltd., is wholly-owned by a Singaporean holding company that is publicly-traded. Because there is no PRC ownership of Taian Fook Huat Tong Kee Foods Co., Ltd., or Fook Huat Tong Kee Pte., Ltd., we determine that no separate-rate analysis is required for these companies because they are beyond the jurisdiction of the PRC government. See Final Determinations of Sales at Less Than Fair Value: Disposable Pocket Lighters from the People's Republic of China, 60 FR 22359, 22361 (May 5, 1995); Bicycles from the People's Republic of China, 61 FR 19026, 19027 (April 30, 1996). Consequently, FHTK qualifies for a company-specific rate.

Use of Facts Otherwise Available

Section 776(a)(2) of the Act provides that if an interested party or any other person: (A) Withholds information that has been requested by the administering authority; (B) fails to provide such information by the deadlines for the submission of the information or in the form and manner requested, subject to subsections (c)(1) and (e) of section 782; (C) significantly impedes a proceeding under this title; or (D) provides such information but the information cannot be verified as provided in section 782(i), the Department shall, subject to section 782(d), use the facts otherwise available in reaching the applicable determination under this title.

Where the Department determines that a response to a request for information does not comply with the request, section 782(d) of the Act provides that the Department will so inform the party submitting the response and will, to the extent practicable, provide that party the opportunity to remedy or explain the deficiency. If the party fails to remedy the deficiency within the applicable time limits, the Department may, subject to section 782(e) of the Act, disregard all or part of the original and subsequent responses, as appropriate. Section 782(e) of the Act provides that the Department “shall not decline to consider information that is submitted by an interested party and is necessary to the determination but does not meet all the applicable requirements established by the administering authority” if the information is timely, can be verified, and is not so incomplete that it cannot be used, and if the interested party acted to the best of its ability in providing the information. Where all of these conditions are met, the statute requires the Department to use the information, if it can do so without undue difficulty.

According to section 776(b) of the Act, if the Department finds that an interested party “has failed to cooperate by not acting to the best of its ability to comply with a request for information,” the Department may use information that is adverse to the interests of the party as facts otherwise available. Adverse inferences are appropriate “to ensure that the party does not obtain a more favorable result by failing to cooperate than if it had cooperated fully.” See Statement of Administrative Action (SAA) accompanying the URAA, H.R. Doc. No. 316, 103d Cong., 2d Session at 870 (1994). Furthermore, “an affirmative finding of bad faith on the part of the respondent is not required before the Department may make an adverse inference.” Antidumping Duties; Countervailing Duties; Final Rule, 62 FR 27296, 27340 (May 19, 1997).

An adverse inference may include reliance on information derived from the petition, the final determination in the investigation, any previous review, or any other information placed on the record. See section 776(b) of the Act. However, section 776(c) provides that, when the Department relies on secondary information rather than on information obtained in the course of a review, the Department shall, to the extent practicable, corroborate that information from independent sources that are reasonably at its disposal. The SAA states that the independent sources may include published price lists, official import statistics and customs data, and information obtained from interested parties during the particular investigation or review. See SAA at 870. The SAA clarifies that “corroborate” means that the Department will satisfy itself that the secondary information to be used has probative value. Id. As noted in Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (Nov. 6, 1996) (TRBs), to corroborate secondary information, the Department will, to the extent practicable, examine the reliability and relevance of the information used. However, if there are no independent sources from which the Department can derive calculated dumping margins, then, unlike other types of information such as input costs or selling expenses, the only source for margins is previous administrative determinations.

A. New Shipper Review

Clipper submitted a response to section A of the questionnaire on February 12, 2001, and a response to sections C and D on February 28, 2001. Because Clipper failed to provide the Department with sufficient production and sales data in response to its questionnaire, the Department, pursuant to section 782(d) of the Act, sent Clipper a more specific supplemental questionnaire requesting the missing information. On May 17, 2001, Clipper sent its response to the Department. Clipper still failed to provide sufficient production and sales data in its supplemental response. Thus, the Department sent another supplemental questionnaire to Clipper on July 16, 2001. It submitted a response to this supplemental questionnaire on July 20, 2001. Therefore, we have provided the company with the opportunity to remedy or explain the deficiencies in its responses by responding to two supplemental questionnaires. Having reviewed the responses, we find that the supplemental questionnaire responses are incomplete and there is inconsistent information on the record. In response to our February 27, 2001, questionnaire, Clipper stated in an exhibit that the raw garlic was provided by “local garlic growers.” After further inquiry by the Department, Clipper again stated that “the raw garlic was provided by local garlic growers” in its May supplemental response but failed to provide the source of the garlic production. Finally, after our third inquiry in our July supplemental questionnaire, Clipper indicated yet again that raw garlic came from “local growers,” but it did not provide us with any source-specific information. In addition, at times in its responses, Clipper indicated that there may be one garlic grower or several garlic growers. Therefore, the Department knows nothing about Clipper's sources of garlic, not even the number of garlic growers.

The factors of production for growing garlic are critical to the accurate calculation of normal value. This is because information pertaining to garlic production in this case is key to a dumping analysis of Clipper's exports to the United States. See section 773(c)(1) of the Act. Further, because the information was both incomplete and unverifiable, the Department could not use the information actually provided by Clipper, pursuant to section 782(e) of the Act. Therefore, pursuant to section 776(a)(2) of the Act, we find it appropriate to resort to the use the facts otherwise available in our preliminary results of review. For a detailed analysis of our findings, see the “Memorandum from Hermes Pinilla to Laurie Parkhill” regarding the use of facts otherwise available and the corroboration of secondary information (August 14, 2001) (Facts-Available Memorandum I).

Furthermore, we find that Clipper could have complied with our requests for data but did not do so. Clipper gave every indication that it would comply with our requests for information and seemed to support this presumption by providing us with some factors-of-production information in response to a second supplemental questionnaire, albeit with data from unrevealed sources. Indeed, all of Clipper's representations suggest that Clipper itself believed it could comply with the requests for information. Section 776(b) of the Act requires a respondent to cooperate “to the best of its ability” in response to our requests for information during a review. We determine that Clipper did not act to the best of its ability in this case. With no source information pertaining to key factors-of-production information, the Department has no basis on which to conclude that Clipper's submissions are reliable and form a reasonable basis for a margin calculation. Therefore, because Clipper's responses are so incomplete that they could not provide a verifiable basis for determining a margin calculation, we find that Clipper did not act “to the best of its ability,” as required by the Act. Therefore, we find it appropriate, pursuant to section 776(b) of the Act, to use an adverse inference in selecting from the facts otherwise available. See Facts-Available Memorandum I.

The only rate that has ever been calculated in this proceeding is 376.67 percent, a rate that is currently the PRC-wide rate and that was calculated based on information contained in the petition. As detailed in the Facts-Available Memorandum I, the information contained in the petition was challenged during the less-than-fair-value investigation and that challenge was rejected by the Department. See Notice of Final Determination of Sales at Less Than Fair Value: Fresh Garlic from the People's Republic of China, 59 FR 49058, 49059 (September 26, 1994). The rate was corroborated for the preliminary results of the first administrative review. See Notice of Preliminary Results of Antidumping Duty Administrative Review, 61 FR 68229, 68230 (December 27, 1996). We corroborated the information in subsequent reviews to the extent that we noted the history of corroboration and found that we had not received any information that warranted revisiting the issue. See Fresh Garlic from the People's Republic of China: Preliminary Results of Antidumping Duty Administrative Review and Partial Rescission of Administrative Review, 65 FR 48464 (Aug. 8, 2000). Similarly, no information has been presented in the current review that calls into question the reliability or the relevance of the information contained in the petition. We thus find that the information is reliable and relevant.

With respect to the relevance aspect of corroboration, the Department stated in TRBs that it will “consider information reasonably at its disposal as to whether there are circumstances that would render a margin irrelevant. Where circumstances indicate that the selected margin is not appropriate as adverse facts available, the Department will disregard the margin and determine an appropriate margin.” See TRBs at 61 FR 57392. See also Fresh Cut Flowers from Mexico; Preliminary Results of Antidumping Duty Administrative Review, 61 FR 6812, 6814 (Feb. 22, 1996) (disregarding the highest margin in the case as best information available because the margin was based on another company's uncharacteristic business expense resulting in an extremely high margin). There is no information on the record that the application of this rate would be inappropriate in the new shipper review or that the margin is not relevant; therefore for Clipper, we have applied, as adverse facts available, the 376.67 percent margin from a prior administrative review of this order and have satisfied the corroboration requirements under section 776(c) of the Act. See Persulfates from the People's Republic of China: Preliminary Results of Antidumping Duty Administrative Review, 66 FR 18439, 18441 (Apr. 9, 2001) (employing a petition rate used as adverse facts available in a previous segment as the adverse facts available in the current review). See Facts-Available Memorandum I.

B. Administrative Review

Rizhao, Zhejiang, and Wo Hing did not respond to our questionnaire. Consequently, we find it appropriate, under subsection 776(a)(2) of the Act, to use the facts otherwise available as the basis for our preliminary results of review for these three companies. For a detailed discussion of our determination, see the “Memorandum from Edythe Artman to Laurie Parkhill” regarding the use of facts otherwise available and the corroboration of secondary information (August 14, 2001) (Facts-Available Memorandum II).

As discussed in the “Separate Rates” section above, Rizhao, Zhejiang, and Wo Hing did not provide responses to our request for information regarding separate rates and, consequently, we preliminarily determine that these respondent-companies do not merit separate rates. See, e.g., Natural Bristle Paint Brushes and Brush Heads from the People's Republic of China; Preliminary Results of Antidumping Duty Administrative Review, 61 FR 57390 (November 6, 1996). We therefore find that, because these companies do not qualify for separate rates, they are deemed to be covered by the PRC-entity rate.

We find that, by not responding to our questionnaire, Rizhao, Zhejiang, and Wo Hing each failed to cooperate by not acting to the best of their ability to comply with a request for information. Therefore, we find it appropriate to use an inference that is adverse to the interests of each of these companies in selecting from among the facts otherwise available. By doing so, we ensure that the companies will not obtain a more favorable result by failing to cooperate than had they cooperated fully. See Facts-Available Memorandum II.

As discussed above, we find that the secondary information upon which the rate of 376.67 percent was based had been corroborated previously, pursuant to subsection 776(c) of the Act, and continues to have probative value. See Facts-Available Memorandum II. Therefore, we conclude that the margin of 376.67 percent should be used as the facts otherwise available for the preliminary results of review for Rizhao, Zhejiang, and Wo Hing.

FHTK submitted a response to section A of our questionnaire on February 21, 2001, and a response to sections C and D on February 28, 2001. Because FHTK failed to provide the Department with sufficient production and sales data in response to its questionnaires, the Department, pursuant to section 782(d) of the Act, sent FHTK a more specific supplemental questionnaire requesting the missing information. On May 15, 2001, FHTK sent its response to the Department. A great deal of necessary information was still not reported by FHTK. In fact, because the information was both incomplete and unverifiable, the Department could not use the information actually provided by FHTK, pursuant to section 782(e) of the Act.

We find that FHTK did not respond to these questionnaires to the best of its ability. As noted above, section 776(a)(2) of the Act permits the Department to apply facts otherwise available if a respondent has not provided sufficient responses to the Department's questionnaires. Section 776(b) of the Act allows the Department to draw an adverse inference if it determines that a party has not responded to the best of its ability. In this matter, therefore, we find that an adverse inference is warranted.

We find that FHTK's responses are so deficient as to preclude their use in the calculation of a dumping margin. FHTK failed to provide certain information on affiliation and FHTK's production and sales processes. Moreover, FHTK failed to submit financial statements for the two most recently completed fiscal years, as well as information on certain selling expenses. Finally, FHTK did not adequately explain certain factor data related to energy usage, labor, and packing materials. Without this information, we are unable to do a complete factors-of-production analysis. The deficiences in the responses are so significant and pervasive that we are neither able to calculate a dumping margin for FHTK based on its own data nor able to use “gap fillers” for the same reason. Therefore, we conclude that, pursuant to section 776(a)(2) of the Act, the use of total facts available is appropriate for our preliminary results of review for FHTK. We further find that the information in FHTK's responses is not sufficient for purposes of conducting a verification and, accordingly, we will not conduct a verification in this administrative review. See Facts-Available Memorandum II.

In addition, we find that, because the information provided by FHTK was incomplete or lacking in detail for purposes of conducting a verification or calculating a margin, FHTK did not cooperate to the best of its ability to comply with our requests for information. Furthemore, given FHTK's signficant resources and previous participation in antidumping proceedings, we find, at the least, that FHTK could have complied with our requests for information, but it did not do so. Accordingly, we find it appropriate to use an adverse inference in selecting from the facts otherwise available.

As discussed above, we find that the secondary information upon which the rate of 376.67 percent was based has been corroborated previously, pursuant to subsection 776(c) of the Act, and continues to have probative value. Thus, we have preliminarily determined to apply 376.67 percent to the exports of subject merchandise by FHTK during the POR as the facts otherwise available. See Facts-Available Memorandum II.

Preliminary Results of the Reviews

As a result of our new shipper review, we preliminarily determine that a margin of 376.67 percent exists for all of Clipper's exports of the subject merchandise for the period June 1, 2000, through November 30, 2000. As a result of our administrative review, we preliminarily determine that a margin of 376.67 percent exists for FHTK and, as a PRC-entity rate, for all other producers/exporters of the subject merchandise for the period November 1, 1999, through October 31, 2000.

Interested parties may also submit written arguments in case briefs on these preliminary results within 30 days of the date of publication of this notice. Rebuttal briefs, limited to issues raised in case briefs, must be submitted no later than five days after the time limit for filing case briefs. Parties who submit arguments are requested to submit with each argument: (1) a statement of the issue, and (2) a brief summary of the argument. Case and rebuttal briefs must be served on interested parties in accordance with 19 CFR 351.303(f). Also, pursuant to 19 CFR 351.310, within 30 days of the date of publication of this notice, interested parties may request a public hearing on argument raised in the case and rebuttal briefs. Unless the Secretary specifies otherwise, the hearing, if requested, will be held three days after the scheduled date for submission of rebuttal briefs.

The Department will publish the final results of these reviews, including its analysis of issues raised in any case or rebuttal brief, not later than 120 days after the date of publication of this notice.

Upon completion of the final results in these reviews, the Department shall determine, and the Customs Service shall assess, antidumping duties on all appropriate entries.

Furthermore, upon publication of the final results of the reviews, the following deposit rates will be effective with respect to all shipments of fresh garlic from the PRC entered, or withdrawn from warehouse, for consumption on or after the publication date, as provided for by section 751(a)(2)(c) of the Act: (1) the cash deposit rate for the reviewed companies will be the rates for those firms established in the final results of this review; (2) for all other PRC exporters of subject merchandise, the cash deposit rate will be the PRC-wide rate of 376.67 percent; and (3) for non-PRC exporters of subject merchandise from the PRC not covered by this review, the less-than-fair-value investigation, or a previous review, the cash deposit rate will be the rate applicable to the PRC supplier of that exporter. These deposit requirements, when imposed, shall remain in effect until publication of the final results of the next administrative review.

Notification of Interested Parties

This notice serves as a preliminary reminder to importers of their responsibility under 19 CFR 351.402(f)(2) to file a certificate regarding the reimbursement of antidumping duties prior to liquidation of the relevant entries during the review periods. Failure to comply with this requirement could result in the Secretary's presumption that reimbursement of antidumping duties occurred and the subsequent assessment of double antidumping duties.

We are issuing these determinations and notice in accordance with sections 751(a)(1) and 777(i)(1) of the Act.

Dated: August 17, 2001.
Bernard T. Carreau,
Acting Assistant Secretary for Import Administration.

[FR Doc. 01-21469 Filed 8-23-01; 8:45 am]

BILLING CODE 3510-DS-P